DEPARTMENT OF TRANSPORTATION

Federal Railroad Administration

49 CFR Chapter II

[Docket No. FRA-2009-0041, Notice No. 2]

RIN 2130-AC12

Systems for Telephonic Notification of Unsafe Conditions at Highway-Rail and Pathway Grade Crossings

AGENCY: Federal Railroad Administration (FRA), Department of Transportation (DOT).

ACTION: Notice of public hearing.

SUMMARY: On March 4, 2011, FRA published a notice of proposed rulemaking that would require certain railroads to develop a system for telephonic notification of unsafe conditions at highway-rail and pathway grade crossings. FRA is announcing a public hearing to provide interested persons an opportunity to provide comments on the proposal and to discuss further development of the regulation. The Rail Safety Improvement Act of 2008 requires the development and implementation of these telephonic notification systems.

DATES: A public hearing will be held on September 29, 2011, in Washington, DC and will commence at 9 a.m.

ADDRESSES: Public Hearing. The public hearing will be held at the Courtyard Washington Capitol Hill/Navy Yard, Admiral Room I & II, located at 140 L Street, SE., Washington, DC 20003.

Attendance: Any persons wishing to make a statement at the hearing should notify FRA's Docket Clerk, Michelle Silva, by telephone, e-mail, or in writing, at least five business days before the date of the hearing. Ms. Silva's contact information is as follows: FRA, Office of Chief Counsel, Mail Stop 10, 1200 New Jersey Avenue, SE., Washington, DC 20590; telephone: 202-493-6030; e-mail: michelle.silva@dot.gov. For information on facilities or services for persons with disabilities or to request special assistance at the meeting, please contact by telephone or e-mail as soon as possible, Larry Woolverton at 202-493-6212 or larry.woolverton@dot.gov.

FOR FURTHER INFORMATION CONTACT: Beth Crawford, Transportation Specialist, Grade Crossing Safety and Trespass Prevention, Office of Safety Analysis, FRA, 1200 New Jersey Avenue, SE., Mail Stop 25, Washington, DC 20590 (telephone: 202-493-6288), beth.crawford@dot.gov; or Matthew Navarrete, Trial Attorney, Office of Chief Counsel, FRA, 1200 New Jersey Avenue, SE., Mail Stop 10, Washington, DC 20590 (telephone: 202-493-0138), matthew.navarrete@dot.gov.

SUPPLEMENTARY INFORMATION: The purpose of the hearing is to receive oral comments in response to a notice of proposed rulemaking (NPRM) proposing regulations that would require certain railroads to implement systems for telephonic notification of unsafe conditions at highway-rail and pathway grade crossings. See 76 FR 11992-12012 (March 4, 2011). Interested parties are invited to present oral statements and to proffer information and views at the hearing. The hearing will be informal and will be conducted by a representative designated by FRA in accordance with FRA's Rules of Practice (49 CFR 211.25). The hearing will be a non-adversarial proceeding; therefore, there will be no cross examination of persons presenting statements or proffering evidence. An FRA representative will make an opening statement outlining the scope of the hearing. After all initial statements have been completed; those persons wishing to make a brief rebuttal will be given the opportunity to do so in the same order in which the initial statements were made. Additional procedures, as necessary for the conduct of the hearing, will be announced at the hearing. A transcript of the discussions will be made part of the public docket in this proceeding.

Public Participation Procedures. Any person wishing to participate in the public hearing should notify the Docket Clerk by mail or at the address or fax number provided in the Attendance section of this notice at least five working days prior to the date of the hearing and submit three copies of the oral statement that he or she intends to make at the proceeding. The notification should identify the party the person represents, the particular subject(s) the person plans to address, and the time requested. The notification should also provide the Docket Clerk with the participant's mailing address and other contact information. FRA reserves the right to limit participation in the hearing of persons who fail to provide such notification. FRA reserves the right to limit the duration of presentations if necessary to afford all persons with the opportunity to speak.

Background

In section 205 of the Rail Safety Improvement Act of 2008, Public Law 110-432, 122 Stat. 4872 (Oct. 16, 2008) (codified at 49 U.S.C. 20152) (hereinafter RSIA), Congress directed the Secretary of Transportation (Secretary) to issue a regulation, requiring railroads to establish a telephonic notification system for the public to report unsafe conditions at highway-rail and pathway grade crossings. While the statute vests certain responsibilities with the Secretary, those responsibilities have been delegated to the FRA Administrator. See 49 CFR 1.49(oo); 74 FR 26981 (June 5, 2009); see also 49 U.S.C. 103(g).

In an NPRM issued on March 4, 2011, FRA proposed various amendments to its regulations on grade crossing safety. The primary amendments proposed would require a railroad that dispatches a train through a public or private highway-rail or pathway grade crossing to establish and maintain a system that allows a member of the public to call the railroad and report an emergency or other unsafe condition at the crossing. Upon receiving such a report, the railroad may be required to warn all trains authorized to operate through the crossing of the reported unsafe condition, inform local law enforcement of the reported unsafe condition, and must either investigate the report itself or request that the railroad with maintenance responsibility for the crossing investigate the report. If the report is substantiated, the railroad with maintenance responsibility for the crossing would be required to take certain actions to remedy the condition found. The purpose of the hearing is to receive oral comments in response to the requirements related to a telephonic notification system as proposed in the NPRM.

FRA encourages all interested persons to participate in the hearing, at the addresse noted above. We encourage participants wishing to make oral statements to plan on attending the entire hearing, since FRA may not be able to accommodate competing requests to appear at specific times.

Issued in Washington, DC, on September 2, 2011.
Robert Lauby,
Deputy Associate Administrator for Regulatory and Legislative Operations, Federal Railroad Administration.

[FR Doc. 2011-23008 Filed 9-7-11; 8:45 am]

BILLING CODE 4910-06-P